RAILROAD RETIREMENT BOARD

Agency Forms Submitted for OMB Review, Request for Comments

SUMMARY: In accordance with the Paperwork Reduction Act of 1995 (44 U.S.C. Chapter 35), the Railroad Retirement Board (RRB) is forwarding two (2) Information Collection Requests (ICR) to the Office of Information and Regulatory Affairs (OIRA), Office of Management and Budget (OMB). Our ICR describes the information we seek to collect from the public. Review and approval by OIRA ensures that we impose appropriate paperwork burdens.

The RRB invites comments on the proposed collections of information to determine (1) The practical utility of the collections; (2) the accuracy of the estimated burden of the collections; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

1. Title and purpose of information collection:

Request to Non-Railroad Employer for Information About Annuitant's Work and Earnings; OMB 3220-0107.

Under Section 2 of the Railroad Retirement Act (RRA), a railroad employee's retirement annuity or an annuity paid to the spouse of a railroad employee is subject to work deductions in the Tier II component of the annuity and any employee supplemental annuity for any month in which the annuitant works for a Last Pre-Retirement Non-Railroad Employer (LPE). LPE is defined as the last person, company, or institution, other than a railroad employer, that employed an employee or spouse annuitant. In addition, the employee, spouse or divorced spouse Tier I annuity benefit is subject to work deductions under Section 2(F)(1) of the RRA for earnings from any non-railroad employer that are over the annual exempt amount. The regulations pertaining to non-payment of annuities by reason of work are contained in 20 CFR 230.1 and 230.2.

The RRB utilizes Form RL-231-F, Request to Non-Railroad Employer for Information About Annuitant's Work and Earnings, to obtain the information needed for determining if any work deductions should be applied because an annuitant worked in non-railroad employment after the annuity beginning date. One response is requested of each respondent. Completion is voluntary.

Previous Requests for Comments: The RRB has already published the initial 60-day notice (73 FR 68462 and 68463 on November 18, 2008) required by 44 U.S.C. 3506(c)(2). That request elicited no comments.

Information Collection Request (ICR)

Title: Request to Non-Railroad Employer for Information About Annuitant's Work and Earnings.

Form(s) submitted: RL-231-F.

OMB Control Number: 3220-0107.

Expiration date of current OMB clearance: 1/31/2009.

Type of request: Extension without change of a currently approved collection.

Affected Public: Business or other for-profit.

Estimated annual number of respondents: 300.

Total annual responses: 300.

Total annual reporting hours: 150.

Abstract: Under the Railroad Retirement Act (RRA), benefits are not payable if an annuitant works for an employer covered under the RRA or last non-railroad employer. The collection obtains information regarding an annuitant's work and earnings from a non-railroad employer. The information will be used for determining whether benefits should be withheld.

Changes Proposed: The RRB proposes no changes to Form RL-231-F.

2. Title and Purpose of Information Collection

Supplemental Information on Accident and Insurance; OMB 3220-0036.

Under Section 12(o) of the Railroad Unemployment Insurance Act (RUIA), the Railroad Retirement Board is entitled to reimbursement of the sickness benefits paid to a railroad employee if the employee receives a sum or damages for the same infirmity for which the benefits are paid. Section 2(f) of the RUIA requires employers to reimburse the RRB for days in which salary, wages, pay for time lost or other remuneration is later determined to be payable. Reimbursements under section 2(f) generally result from the award of pay for time lost or the payment of guaranteed wages. The RUIA prescribes that the amount of benefits paid be deducted and held by the employer in a special fund for reimbursement to the RRB.

The RRB currently utilizes Form(s) SI-1c, (Supplemental Information on Accident and Insurance), SI-5 (Report of Payments to Employee Claiming Sickness Benefits Under the RUIA), ID-3s (Request for Lien Information), ID-3s-1, (Lien Information Under Section 12(o) of the RUIA), ID-3U (Request for Section 2(f) Information), ID-30k (Form Letter Asking Claimant for Additional Information on Injury or Illness), and ID-30k-1 (Request for Supplemental Information on Injury or Illness—3rd Party), to obtain the necessary information from claimants and railroad employers. Completion is required to obtain or retain benefits.

Previous Requests for Comments: The RRB has already published the initial 60-day notice (73 FR 68462 and 68463 on November 18, 2008) required by 44 U.S.C. 3506(c)(2). That request elicited no comments.

Information Collection Request (ICR)

Title: Supplemental Information on Accident and Insurance.

Form(s) submitted: SI-1c, SI-5, ID-3s-1, ID-3U, ID-30k, ID-30k-1, ID-3s.

OMB Control Number: 3220-0036.

Expiration date of current OMB clearance: 1/31/2009.

Type of request: Revision of a currently approved collection.

Affected Public: Individuals or Households, Business or other for-profit.

Estimated annual number of respondents: 10,000.

Total annual responses: 28,500.

Total annual reporting hours: 1,693.

Abstract: The Railroad Unemployment Insurance Act provides for the recovery of sickness benefits paid if an employee receives a settlement for the same injury for which benefits were paid. The collection obtains information abut the person or company responsible for such payments that is needed to determine the amount of the RRB's entitlement.

Changes Proposed: The RRB proposes minor non-burden impacting changes to Forms SI-1c, ID-3s, ID-3s-1 and ID-3U. No other changes are proposed.

Additional Information or Comments: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois 60611-2092 or Ronald.Hodapp@rrb.gov and to the OMB Desk Officer for the RRB, at the Office of Management and Budget, Room 10230, New Executive Office Building, Washington, DC 20503.

Charles Mierzwa,
Clearance Officer.

[FR Doc. E9-1649 Filed 1-26-09; 8:45 am]

BILLING CODE 7905-01-P